DEPARTMENT OF COMMERCE

International Trade Administration

AGENCY: International Trade Administration, Department of Commerce.

ACTION: Notice.

SUMMARY: The Department of Commerce seeks U.S. companies to exhibit their catalogues in the U.S. Environmental Technologies Product Literature Center at Pollutec in Lyon, France, October 17-20, 2000. Recruitment closes on September 15, 2000. For information contact: Ms. Anne Novak, U.S. Department of Commerce, telephone: 202-482-8178, fax: 202-501-7909, e-mail: Anne_Novak@ita.doc.gov

Every year Pollutec, France's premier trade show for air, water, solid and hazardous waste technologies, draws a worldwide audience of over 60,000 professional visitors. About six in ten have become customers of exhibitors they met at Pollutec, and American companies which exhibited at Pollutec last year received approximately 1,100 business leads. See their website http://www.Pollutec.com for more information on Pollutec.

The U.S. Environmental Technologies Product Literature Center will be managed by experienced specialists from Department of Commerce offices in France and Washington. The participation fee for this catalog showcase is $380.00, and companies will need to forward sets of their company literature, which will be displayed at the U.S. Pavilion at Pollutec and promoted by Department of Commerce specialists.

FOR FURTHER INFORMATION CONTACT: Reginald Beckham, U.S. Department of Commerce. Tel: 202-482-5478, Fax: 202-482-1999.

Dated: July 17, 2000.
Thomas H. Nisbet,
Director, Promotion Planning and Support Division, Office of Export Promotion Coordination.

[FR Doc. 00-18550 Filed 7-20-00; 8:45 am]

BILLING CODE 3510-DR-P